NUCLEAR REGULATORY COMMISSION

[Docket Nos. 50-280 and 50-281]

Virginia Electric and Power Company (Dominion); Surry Power Station, Unit Nos. 1 and 2; Notice of Consideration of Issuance of Amendments to Facility Operating Licenses, Proposed No Significant Hazards Consideration Determination, and Opportunity for a Hearing

The U.S. Nuclear Regulatory Commission (the Commission) is considering issuance of amendments to Facility Operating License Nos. DPR-32 and DPR-37, issued to Virginia Electric and Power Company (the licensee), for operation of the Surry Power Station, Unit Nos. 1 and 2, located in Surry County, Virginia.

The proposed amendments would add a requirement to Title 10 of the Code of Federal Regulations, (10 CFR) part 50 license to restrict the minimum cooling time and burnup of spent fuel assemblies that will be placed into storage in the NUHOMS HD spent fuel dry storage system at Surry 1 and 2 starting in the summer of 2006. Specifically, the proposed amendments would add Figure 5.4-2 to the Technical Specifications (TSs) to ensure that the NUHOMS HD canister remains subcritical during operations in the Surry 1 and 2 spent fuel pool.

Before issuance of the proposed license amendments, the Commission will have made findings required by the Atomic Energy Act of 1954, as amended (the Act), and the Commission's regulations.

The Commission has made a proposed determination that the amendments request involve no significant hazards consideration. Under the Commission's regulations in 10 CFR part 50, § 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

(1) The probability of occurrence or the consequences of an accident previously evaluated is not significantly increased.

Operation under 10 CFR 50.68 for use of the NUHOMS HD system and implementation of additional requirements on the cooling time and burnup of fuel that is to be loaded into the NUHOMS HD 32PTH DSC [Dry Shielded Canister] will not require any physical changes to Part 50 structures, systems, or components, nor will there be any changes to the performance requirements of existing structures, systems, or components. Handling of spent fuel storage casks has previously been evaluated for Surry. When older cask designs stored under the Surry ISFSI [Independent Spent Fuel Storage Installation] site specific license are returned to the station, they will be handled and controlled in the same manner as the initial loading and movement of these casks. The response of the plant to previously analyzed Part 50 accidents is not adversely impacted, and current analyses of radiological releases, including those for the fuel handling accident, will continue to bound activities related to spent fuel cask loading, handling, and storage.

(2) The possibility of a new or different kind of accident from any accident previously evaluated is not created.

Neither fuel handling nor the loading and handling of the NUHOMS HD 32PTH DSC will be affected by operation under 10 CFR 50.68(b) or by placing additional constraints on selection of fuel to be stored in the DSC. When older cask designs stored under the Surry ISFSI site specific license are returned to the station, they will be handled and controlled in the same manner as the initial loading and movement of these casks. The existing process used to ensure that fuel assemblies selected for dry storage comply with the specific cask and ISFSI licensing requirements will be used to select the fuel assemblies to be placed in the NUHOMS HD 32PTH DSC. The requirements of the proposed new Technical Specification will only represent additional limitations that must be considered during this selection process.

(3) There is not a significant reduction in a margin of safety.

The Code of Federal Regulations identifies compliance with 10 CFR 50.68(b) as an acceptable alternative to compliance with 10 CFR 70.24. The emphasis of 10 CFR 70.24 is on detection of criticality events, while the requirements of 10 CFR 50.68(b) emphasize prevention of inadvertent criticality events. Operation under 10 CFR 50.68(b) is therefore preferable to ensure that Surry complies with the intent of General Design Criterion 62, which specifically directs that criticality should be prevented during fuel storage and handling. The existing criticality limits for the Surry Spent Fuel Pool and New Fuel Storage Area will be maintained. The NUHOMS HD spent fuel storage system is currently under review for general licensing, and has been shown to comply with the criticality requirements identified in 10 CFR part 72. Compliance with the proposed Surry Technical Specification will further ensure that the system remains safely subcritical during all handling and storage operations (e.g., load, unloading, handling, decontamination, etc.) that are conducted at the station prior to transfer of the DSC to the ISFSI, even under the more restrictive condition of assuming the DSC is fully loaded with fuel of the maximum allowable reactivity and flooded with unborated water. Application of a fuel burnup credit in this criticality analysis ensures that the full soluble boron concentration required in the Spent Fuel Pool water by Surry plant Technical Specifications is available to provide defense in depth to an inadvertent criticality event. The older cask designs stored under the Surry ISFSI site specific license will be handled in the same manner used to initially load and move these casks, and the criticality requirements that were previously determined to be acceptable for safe loading, unloading and handling of these casks will remain applicable.

Based on the above discussion, Surry operation under 10 CFR 50.68(b) and implementation of the proposed Technical Specification for use of the NUHOMS HD dry storage system, and continued handling of older cask designs under the original licensing basis for these casks, will not involve a significant increase in the probability or consequences of an accident previously evaluated. The possibility of a new or different kind of accident from any accident previously evaluated is also not created, and there is no significant reduction in a margin of safety. Therefore the requirements of 10 CFR 50.92(c) are met, and there is not a significant hazards consideration.

The NRC staff has reviewed the licensee's analysis and, based on this review, it appears that the three standards of 10 CFR 50.92(c) are satisfied. Therefore, the NRC staff proposes to determine that the amendments request involve no significant hazards consideration.

The Commission is seeking public comments on this proposed determination. Any comments received within 30 days after the date of publication of this notice will be considered in making any final determination.

Normally, the Commission will not issue the amendments until the expiration of 60 days after the date of publication of this notice. The Commission may issue the license amendments before expiration of the 60-day period provided that its final determination is that the amendments involve no significant hazards consideration. In addition, the Commission may issue the amendments prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room (PDR), located at One White Flint North, Public File Area O1 F21, 11555 Rockville Pike (first floor), Rockville, Maryland.

The filing of requests for hearing and petitions for leave to intervene is discussed below.

Within 60 days after the date of publication of this notice, the licensee may file a request for a hearing with respect to issuance of the amendments to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.309, which is available at the Commission's PDR, located at One White Flint North, Public File Area O1F21, 11555 Rockville Pike (first floor), Rockville, Maryland. Publicly available records will be accessible from the Agencywide Documents Access and Management System's (ADAMS) Public Electronic Reading Room (PDR) on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address and telephone number of the requestor or petitioner; (2) the nature of the requestor's/petitioner's right under the Act to be made a party to the proceeding; (3) the nature and extent of the requestor's/petitioner's property, financial, or other interest in the proceeding; and (4) the possible effect of any decision or order which may be entered in the proceeding on the requestors/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner/requestor must also provide references to those specific sources and documents of which the petitioner is aware and on which the petitioner intends to rely to establish those facts or expert opinion. The petition must include sufficient information to show that a genuine dispute exists with the applicant on a material issue of law or fact. Contentions shall be limited to matters within the scope of the amendments under consideration. The contention must be one which, if proven, would entitle the petitioner to relief. A petitioner/requestor who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendments request involve no significant hazards consideration, the Commission may issue the amendments and make it immediately effective, notwithstanding the request for a hearing. Any hearing held would take place after issuance of the amendments. If the final determination is that the amendments request involve a significant hazards consideration, any hearing held would take place before the issuance of any amendment.

Nontimely requests and/or petitions and contentions will not be entertained absent a determination by the Commission or the presiding officer of the Atomic Safety and Licensing Board that the petition, request and/or the contentions should be granted based on a balancing of the factors specified in 10 CFR 2.309(c)(1)(i)-(viii).

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland, 20852, Attention: Rulemaking and Adjudications Staff; (3) E-mail addressed to the Office of the Secretary, U.S. Nuclear Regulatory Commission, HEARINGDOCKET@NRC.GOV; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to 301-415-3725 or by e-mail to OGCMailCenter@nrc.gov. A copy of the request for hearing and petition for leave to intervene should also be sent to the Ms. Lillian M. Cuoco, Esquire, Senior Counsel, Dominion Resources Services, Inc., Building 475, 5th Floor, Rope Ferry Road, Waterford, Connecticut 06385, attorney for the licensee.

For further details with respect to this action, see the application for amendment dated February 14, 2006, which is available for public inspection at the Commission's PDR, located at One White Flint North, Public File Area O1 F21, 11555 Rockville Pike (first floor), Rockville, Maryland. Publicly available records will be accessible from the Agencywide Documents Access and Management System's (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail to pdr@nrc.gov.

Dated at Rockville, Maryland, this 1st day of May, 2006.
For the Nuclear Regulatory Commission.
Stephen R. Monarque,
Project Manager, Plant Licensing Branch II-1, Division of Operating Reactor Licensing, Office of Nuclear Reactor Regulation.

[FR Doc. E6-7497 Filed 5-15-06; 8:45 am]

BILLING CODE 7590-01-P